DEPARTMENT OF TRANSPORTATION

Federal Aviation Administration

14 CFR Part 39

[Docket No. FAA-2011-1341; Directorate Identifier 2011-NE-41-AD; Amendment 39-17062; AD 2012-10-13]

RIN 2120-AA64

Airworthiness Directives; Continental Motors, Inc. (CMI) Reciprocating Engines

AGENCY: Federal Aviation Administration (FAA), DOT.

ACTION: Final rule; request for comments.

SUMMARY: We are superseding an existing airworthiness directive (AD) for certain Continental Motors, Inc. (CMI) models TSIO-520, TSIO-550-K, TSIOF-550K, and IO-550-N series reciprocating engines with new or rebuilt CMI starter adapters installed between January 1, 2011 and November 20, 2011. That AD currently requires replacing affected CMI starter adapters with starter adapters eligible for installation. This AD requires the same actions, but to an expanded population of reciprocating engines. This AD was prompted by two additional reports received of fractures in starter adapter gear shafts in certain additional part number (P/N) CMI starter adapters since we issued the existing AD. We are issuing this AD to prevent starter adapter gear shaft failure which could cause oil scavenge pump failure and engine in-flight shutdown.

DATES: This AD is effective June 8, 2012.

We must receive any comments on this AD by July 9, 2012.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Continental Motors, Inc., PO Box 90, Mobile, AL 36601; phone: 251-438-3411, or go to: http://tcmlink.com/servicebulletins.cfm.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Anthony Holton, Aerospace Engineer, Atlanta Certification Office, FAA, Small Airplane Directorate, 1701 Columbia Avenue, Atlanta, GA 30337; phone: 404-474-5567; fax: 404-474-5606; email: anthony.holton@faa.gov.

SUPPLEMENTARY INFORMATION:

Discussion

On December 5, 2011, we issued AD 2011-25-51, Amendment 39-16891 (76 FR 77382, December 13, 2011). That AD applied to certain CMI models TSIO-520, TSIO-550-K, TSIOF-550K, and IO-550-N series reciprocating engines manufactured between January 1, 2011 and November 20, 2011 with certain starter adapters installed. That AD also applied to those same engine models where a replacement new or rebuilt starter adapter from CMI was installed between January 1, 2011 and November 20, 2011. That AD requires replacing affected CMI starter adapters with starter adapters eligible for installation. That AD resulted from five reports of fractures in starter adapter gear shafts in certain P/N CMI starter adapters. We issued that AD to prevent starter adapter gear shaft failure which could cause oil scavenge pump failure and engine in-flight shutdown.

Actions Since AD 2011-25-51 Was Issued

Since we issued AD 2011-25-51 (76 FR 77382, December 13, 2011), we received 2 additional reports of fractures in starter adapter shaft gears in CMI starter adapters not listed in that AD. This AD supersedure expands the population of affected starter adapters by adding five P/Ns, P/Ns 642085A18; 642085A22; R-642085A18; R-642085A19; and R-642085A22, to the applicability. This AD supersedure also expands the applicability from new or rebuilt CMI starter adapters installed between January 1, 2011 and November 20, 2011, to, new or rebuilt CMI starter adapters installed before November 20, 2011.

FAA's Determination

We are issuing this AD because we evaluated all the relevant information and determined the unsafe condition described previously is likely to exist or develop in other products of the same type design.

AD Requirements

This AD requires replacing affected CMI starter adapters on affected engines with starter adapters eligible for installation.

FAA's Justification and Determination of the Effective Date

An unsafe condition exists that requires the immediate adoption of this AD. The FAA has found that the risk to the flying public justifies waiving notice and comment prior to adoption of this rule because of the short compliance time required to remove the affected parts from service. Therefore, we find that notice and opportunity for prior public comment are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2011-1341 and directorate identifier FAA-2011-NE-41-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 225 engines installed on airplanes of U.S. registry. We also estimate that it will take about 4 work-hours per engine to perform the actions required by this AD, and that the average labor rate is $85 per work-hour. Required parts will cost about $500 per engine. Based on these figures, we estimate the total cost of the AD to U.S. operators to be $189,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-25-51, Amendment 39-16891, (76 FR 77382, December 13, 2011) and adding the following new AD:

2012-10-13 Continental Motors, Inc. (formerly Teledyne Continental Motors, formerly Continental): Amendment 39-17062; Docket No. FAA-2011-1341; Directorate Identifier 2011-NE-41-AD.

(a) Effective Date

This AD is effective June 8, 2012.

(b) Affected ADs

This AD supersedes AD 2011-25-51, Amendment 39-16891 (76 FR 77382, December 13, 2011).

(c) Applicability

This AD applies to Continental Motors, Inc. (CMI) TSIO-520-B, BB, D, DB, E, EB, J, JB, K, KB, N, NB, UB, VB; TSIO-550-K; TSIOF-550-K; IO-550-N (Turbo-normalized only; STC SE10589SC); with a starter adapter part number (P/N) 642085A17; 642085A18; 642085A19; 642085A20; 642085A22; 642085-1A1, R-642085A17; R-642085A18; R-642085A19; or R-642085A22 installed, where the engine was manufactured before November 20, 2011, or, where a new or rebuilt starter adapter was installed before November 20, 2011.

(d) Unsafe Condition

This AD was prompted by two additional reports received of fractures in starter adapter gear shafts in certain additional P/N CMI starter adapters since we issued AD 2011-25-51 (76 FR 77382, December 13, 2011). We are issuing this AD to prevent starter adapter gear shaft failure which could cause oil scavenge pump failure and engine in-flight shutdown.

(e) Compliance

Comply with this AD within the compliance times specified, unless already done.

(1) For starter adapters with less than 75 hours of total time-in-service (TIS) on the effective date of this AD, before further flight, replace the starter adapter with a starter adapter eligible for installation.

(2) For starter adapters with between 75 and 100 hours of total TIS, inclusive on the effective date of this AD, within the next 10 hours of engine operation, or before exceeding 100 hours TIS, whichever occurs first, replace the starter adapter with a starter adapter eligible for installation.

(3) For starter adapters with more than 100 hours of total TIS on the effective date of this AD, no further action is required.

(f) Definition

For the purpose of this AD, a starter adapter eligible for installation is:

(1) A starter adapter with one of the P/Ns listed in this AD that has a vibro-peened manufacturer code below the ink stamped P/N on the starter adapter, or

(2) A starter adapter with one of the P/Ns listed in this AD that has more than 100 hours total TIS.

(g) Alternative Methods of Compliance (AMOCs)

The Manager, Atlanta Certification Office, may approve AMOCs for this AD. Use the procedures found in 14 CFR 39.19 to make your request.

(h) Related Information

(1) For further information about this AD, contact: Anthony Holton, Aerospace Engineer, Atlanta Certification Office, FAA, Small Airplane Directorate, 1701 Columbia Avenue, Atlanta, GA 30337; phone: 404-474-5567; fax: 404-474-5606; email: anthony.holton@faa.gov.

(2) CMI Mandatory Service Bulletin No. MSB11-4B, dated April 4, 2012, pertains to this AD.

(3) For copies of the service information referenced in this AD, contact: Continental Motors, Inc., PO Box 90, Mobile, AL 36601; phone: 251-438-3411, or go to: http://tcmlink.com/servicebulletins.cfm. You may review copies of the referenced service information at the FAA, Engine & Propeller Directorate, 12 New England Executive Park, Burlington, MA. For information on the availability of this material at the FAA, call 781-238-7125.

Issued in Burlington, Massachusetts, on May 16, 2012.
Peter A. White,
Manager, Engine & Propeller Directorate, Aircraft Certification Service.

[FR Doc. 2012-12612 Filed 5-23-12; 8:45 a.m.]

BILLING CODE 4910-13-P